DEPARTMENT OF THE INTERIOR

Fish and Wildlife Service

Reopening of Public Comment Period and Availability of a Draft Environmental Assessment and Preliminary Finding of No Significant Impact, and Receipt of an Application for an Incidental Take Permit for Forest Management and Timber Harvest in Mississippi and Alabama

AGENCY: Fish and Wildlife Service, Interior.

ACTION: Notice of reopening of public comment period.

We, the U.S. Fish and Wildlife Service (Service), announce the availability of a draft Environmental Assessment and preliminary Finding of No Significant Impact, and receipt of an application for an incidental take permit for forest management and timber harvest in Mississippi and Alabama. We also provide notice that the public comment period for the proposal is reopened to allow all interested parties to submit written comments on the proposed incidental take permit. Comments previously submitted during the comment period need not be resubmitted as they will be incorporated into the public record and will be fully considered in the final determination on the proposal.

International Paper (Applicant) has requested an incidental take permit (ITP) pursuant to section 10(a)(1)(B) of the Endangered Species Act of 1973 (U.S.C. 1531 et seq.), as amended (Act). The Applicant anticipates taking the threatened gopher tortoise (Gopherus polyphemus) over the next 5 years incidental to forest management for timber production and wildlife enhancement, road construction, research, and timber harvest. The anticipated take and measures to minimize and mitigate these takings will occur on 80,000 acres of the Applicant's fee simple and leased lands in Lamar, George, Pearl River, Greene, Stone, Harrison, Perry, Forrest, and Jackson counties, Mississippi; and in Washington and Mobile counties, Alabama. The proposed permit would authorize incidental take of up to 1,420 tortoises that are not associated with gopher tortoise colonies. Of the tortoises incidentally taken, most would be harmed but not actually killed or physically injured during this 5-year plan.

To minimize and mitigate for taking of gopher tortoises, the Applicant will protect, restore, and maintain habitat for 1,280 tortoises within 240 gopher tortoise colonies within stands where timber will be thinned or regenerated. Adaptive management will be used to ensure that at least 10 colony tortoises are conserved in restored and managed habitat for every 11 tortoises potentially subject to incidental take. The Applicant's Habitat Conservation Plan (HCP) is an interim 5-year plan and permit during which time additional research and planning will be completed for a more long-term comprehensive HCP. A more detailed description of the mitigation and minimization measures to address the effects of the Project to the gopher tortoise is provided in the Applicant's HCP, the Service's draft Environmental Assessment (EA), and in the SUPPLEMENTARY INFORMATION section below.

The Service announces the availability of a draft EA and HCP for the incidental take application. Copies of the draft EA and/or HCP may be obtained by making a request to the Regional Office (see ADDRESSES). Requests must be in writing to be processed. This notice also advises the public that the Service has made a preliminary determination that issuing the ITP is not a major Federal action significantly affecting the quality of the human environment within the meaning of section 102(2)(C) of the National Environmental Policy Act of 1969, as amended (NEPA). The preliminary Finding of No Significant Impact (FONSI) is based on information contained in the draft EA and HCP. The final determination will be made no sooner than 30 days from the date of this notice. This notice is provided pursuant to section 10 of the Act and NEPA regulations (40 CFR 1506.6).

The Service specifically requests information, views, and opinions from the public via this Notice on the federal action, including the identification of any other aspects of the human environment not already identified in the Service's draft EA. Further, the Service specifically solicits information regarding the adequacy of the HCP as measured against the Service's ITP issuance criteria found in 50 CFR parts 13 and 17.

If you wish to comment, you may submit comments by any one of several methods. Please reference permit number TE033112-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: The original comment period closed December 27, 2000. The comment period is hereby reopened until April 4, 2001. Written comments on the ITP application, draft EA, and HCP should be sent to the Service's Regional Office (see ADDRESSES).

ADDRESSES: Persons wishing to review the application, HCP, and EA may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, 6578 Dogwood View Parkway, Suite A, Jackson, Mississippi 39213. Written data or comments concerning the application, or HCP should be submitted to the Regional Office. Please reference permit number TE033112-0 in requests of the documents discussed herein.

FOR FURTHER INFORMATION CONTACT: Mr. David Dell, Regional HCP Coordinator, (see ADDRESSES above), telephone: 404/679-7313, facsimile: 404/679-7081; or Mr. Will McDearman, Fish and Wildlife Biologist, Jackson Field Office, Mississippi (see ADDRESSES above), telephone: 601/321-1124.

SUPPLEMENTARY INFORMATION: The gopher tortoise was listed in 1987 as a threatened species in the western part of its geographic range, west of the Tombigbee and Mobile Rivers in Alabama, Mississippi and Louisiana. The gopher tortoise is a burrowing animal that historically inhabited fire-maintained longleaf pine communities on moderately well drained to xeric soils in the Coastal Plain. These longleaf pine communities consisted of relatively open fire-maintained forests, without a closed overstory, with a well developed herbaceous plant layer of grasses and forbs. About 80% of the original habitat for gopher tortoises was lost by the time the species was listed due to conversions to urban and agricultural land use. On remaining forests, management practices converting longleaf pine to densely planted pine stands for pulpwood production, fire exclusion, and infrequently prescribed fire further reduced the open forest with grasses and forbs that tortoises need for burrowing, nesting, and feeding. Over 19,000 gopher tortoises have been estimated to occur in the listed range. The tortoise, however, is a long-lived animal with low reproductive rates. Remaining populations, though relatively widespread, are individually small, fragmented, and usually in poor habitat without adequate reproduction for a self-sustaining viable population. Frequent fire no longer naturally occurs in the listed range due to past effects of habitat alteration and fragmentation. Without prescribed fire and other restoration actions the quality of gopher tortoise habitat continues to decline. Land management to avoid the incidental take of tortoises will not recover the species since restoration and active management to maintain habitat is required.

Under section 9 of the Act and its implementing regulations, “taking” of endangered and threatened wildlife is prohibited. However, the Service, under limited circumstances, may issue permits to take such wildlife if the taking is incidental to and not the purpose of otherwise lawful activities. The Applicant has prepared an HCP as required for the incidental take permit application.

The biological goal of the Applicant's HCP is to conserve, restore, and sustain all gopher tortoise colonies for a 5-year period in stands where timber will be thinned or regenerated. Prior to timber harvests, each stand will be comprehensively surveyed for gopher tortoise colonies. A management area will be designated for each colony where thinning, prescribed fire, and other measures will be used to reduce or eliminate encroaching shrubs, hardwoods, and as necessary pine trees to create an open forest and optimal conditions for gopher tortoises. Since the density of tortoises is greater in colonies, the objective of the plan is to conserve and manage segments of the population that most likely continue to breed.

Gopher tortoise surveys on 20,000 acres of transects on the Applicant's land have not identified any colonies or populations that are potentially viable with 50 or more interbreeding tortoises. Gopher tortoises occur, overall, at low densities on the Applicant's land. The focus of this interim plan is to conserve the most likely breeding segments of the population that are important for short-term survival. During this period, a long-term plan will be developed based on additional research and comprehensive surveys on up to 80,000 acres of habitat. The goal of the future plan is restore and manage habitat for aggregations of colonies with the greatest potential to contribute to recovery.

The HCP has the following objectives:

1. Survey Applicant's lands within the historic gopher tortoise range to identify tortoise occurrence in relation to soil type and other habitat parameters in order to develop predictive models of tortoise occurrence.

2. Conduct research to form a scientific basis for submission of an HCP for at least an additional 25 years that would seek to build and maintain viable gopher tortoise populations on the Applicant's lands.

3. Conduct research to evaluate adverse effects of mechanized forest management and harvesting, and other silvicultural practices on gopher tortoises.

4. Identify gopher tortoise colonies and designate management areas around these sites. Improve and perpetuate favorable habitat conditions around these management areas.

5. Conduct research necessary to implement long term mitigation with the goal of creating larger, contiguous gopher tortoise management units that will become viable population centers contributing to species recovery goals.

6. Demonstrate successful application of adaptive management, sound science, and third party involvement in development of a broad-base HCP that has the core objective of contributing to gopher tortoise recovery.

7. Establish management, mitigation, and monitoring protocol for implementation of future versions of the HCP in longer term incidental take authorizations.

8. Inform and train applicant's employees, contractors, and recreational users on the gopher tortoise management guidelines specified in the HCP.

As stated above, the Service has made a preliminary determination that the issuance of the ITP is not a major Federal action significantly affecting the quality of the human environment within the meaning of section 102(2)(C) of NEPA. This preliminary information may be revised due to public comment received in response to this notice and is based on information contained in the draft EA and HCP.

The Service will also evaluate whether the issuance of a section 10(a)(1)(B) ITP complies with section 7 of the Act by conducting an intra-Service section 7 consultation. The results of the biological opinion, in combination with the above findings, will be used in the final analysis to determine whether or not to issue the ITP.

Dated: February 7, 2001.
Sam D. Hamilton,
Regional Director.

[FR Doc. 01-5231 Filed 3-2-01; 8:45 am]

BILLING CODE 4310-55-P